DEPARTMENT OF COMMERCE

National Oceanic and Atmospheric Administration

RIN 0648-XO82

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application submitted by the University of Rhode Island/Rhode Island Sea Grant (URI/RISG) contains all of the required information and warrants further consideration. The Assistant Regional Administrator has made a preliminary determination that the activities authorized under this EFP would be consistent with the goals and objectives of the Atlantic Mackerel, Squid and Butterfish Fishery Management Plans (FMP). However, further review and consultation may be necessary before a final determination is made to issue an EFP. Therefore, NMFS announces that the Assistant Regional Administrator proposes to recommend that an EFP be issued that would allow two commercial fishing vessels to conduct fishing operations that are otherwise restricted by the regulations governing the fisheries of the Northeastern United States.

Regulations under the Magnuson-Stevens Fishery Conservation and Management Act require publication of this notification to provide interested parties the opportunity to comment on applications for proposed EFPs.

DATES: Comments must be received on or before May 14, 2009.

ADDRESSES: You may submit written comments by any of the following methods:

• Email: DA9-088@noaa.gov. Include in the subject line “Comments on URI/RISG Loligo fishery EFP.”

• Mail: Patricia A. Kurkul, Regional Administrator, NMFS, NE Regional Office, 55 Great Republic Drive, Gloucester, MA 01930. Mark the outside of the envelope “Comments on URI/RISG Loligo fishery EFP, DA9-088.”

• Fax: (978) 281-9135.

FOR FURTHER INFORMATION CONTACT: Aja Peters-Mason, Fishery Management Specialist, 978-281-9195.

SUPPLEMENTARY INFORMATION: An application for an EFP was submitted on March 23, 2009, by David Beutel, the Fishery Extension Specialist at URI/RISG. The primary goal of this study is to investigate the effects of an experimental trawl in reducing bycatch of butterfish and scup in the Loligo squid fishery. The results of this research could be submitted to the Mid-Atlantic Fishery Management Council to provide information that could be used to enhance the management of the Loligo squid fishery.

Two chartered fishing vessels will be used to conduct five one-day fishing trips during the spring (May/June 2009) and five one-day fishing trips in the fall (September/October 2009) in and around Block Island Sound and Rhode Island Sound. On each day of sampling, two vessels will tow side-by-side with one vessel towing the control net and the other the experimental net. Each fishing day will consist of six tows of 45 to 60 minutes duration. Each vessel will have one scientific observer on board.

The researchers will conduct a bottom trawl catch characterization study aboard two commercial fishing vessels targeting Loligo squid using a “side-by-side” towing method comparing the control net with the experimental net. The control net is a 362 x 12 cm two seam polyethylene balloon net equipped with an 20-cm (8-inch) rockhopper sweep. The experimental net is identical to the control except for the addition of the eighteen foot long rope escape panel with the final two bellies repeated. The rope escape panel will be fitted over the circumference of the original bellies 35.5 meshes down from the wide end of the 8-cm lower belly. This will cause the original 8-cm bellies to act as a funnel. Small canvas flow diverters will be used to maintain the shape of the after bellies, the escape panel, and the funnel. Flow diverters also create small pockets of low pressure which may facilitate the butterfish and scup in finding the route of escape.

For each tow, either all of the butterfish and scup or a subsample consisting of at least 10% of the catch will be weighed and measured for total length (to nearest cm). Total catch size will be determined prior to subsampling. Other expected bycatch includes summer flounder and Atlantic bluefish, which will be weighed and measured.

In addition to harvesting the target species, Loligo squid, the applicant expects to incidentally catch butterfish, scup, summer flounder, and bluefish. Because the vessel would be temporarily retaining both target and non-target fish for data collection purposes that it otherwise should not, the vessel requires exemption from minimum fish size and possession restrictions found throughout 50 CFR part 648.

All Loligo and other legally-sized fish caught during research would be landed as normal commercial harvest and sold to defray the costs of chartering the collaborating fishing vessels. All other organisms would be discarded as quickly and carefully as practicable following data collection to ensure maximum likelihood of survival.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 24, 2009.
Kristen C. Koch,
Acting Director, Office of Sustainable Fisheries, National Marine Fisheries Service.

[FR Doc. E9-9814 Filed 4-28-09; 8:45 am]

BILLING CODE 3510-22-S